DEPARTMENT OF LABOR

Mine Safety and Health Administration

Petitions for Modification

The following parties have filed petitions to modify the application of existing safety standards under section 101(c) of the Federal Mine Safety and Health Act of 1977.

1. Plateau Mining Company

[Docket No. M-2000-046-C]

Plateau Mining Company, One Oxford Centre, 301 Grant Street, 20th Floor, Pittsburgh, Pennsylvania 15219-1410 has filed a petition to modify the application of 30 CFR 75.364(b)(2) (weekly examination) to its Star Point No. 2 Mine (I.D. No. 42-00171) located in Carbon County, Utah. Due to deteriorating roof and rib conditions in a portion of the Star Point No. 2 Mine, the petitioner proposes to establish check points to examine the affected area instead of traveling the area in its entirety, and to evaluate the evaluation points on a weekly basis. The petitioner asserts that the proposed alternative method would provide at least the same measure of protection as the existing standard and that application of the existing standard would result in a diminution of safety to the miners.

2. Bowie Resources, Ltd.

[Docket No. M-2000-047-C]

Bowie Resources, Ltd., P.O. Box 1488, 1720 4010 Drive, Paonia, Colorado 81428 has filed a petition to modify the application of 30 CFR 75.701 (grounding metallic frames, casings, and other enclosures of electric equipment) to its Bowie Mine (I.D. No. 05-04591) located in Delta County, Colorado. The petitioner proposes to use a 460 KW, 480 volt, wye connected diesel powered generator for utility power and to move electrically powered mining equipment throughout the mine. The petitioner asserts that the proposed alternative method would provide at least the same measure of protection as the existing standard.

3. Bowie Resources, Ltd.

[Docket No. M-2000-048-C]

Bowie Resources, Ltd., P.O. Box 1488, 1720 4010 Drive, Paonia, Colorado 81428 has filed a petition to modify the application of 30 CFR 75.901(a) (protection of low-and medium-voltage three-phase circuits used underground) to its Bowie Mine (I.D. No. 05-04591) located in Delta County, Colorado. The petitioner proposes to use a 460 KW, 480 volt, wye connected diesel powered generator to move and operate electrically powered mobile equipment and stationary equipment throughout the mine. The petitioner asserts that the proposed alternative method would provide at least the same measure of protection as the existing standard.

4. Bowie Resources, Ltd.

[Docket No. M-2000-049-C]

Bowie Resources, Ltd., P.O. Box 1488, 1720 4010 Drive, Paonia, Colorado 81428 has filed a petition to modify the application of 30 CFR 75.500(d) (permissible electric equipment) to its Bowie Mine (I.D. No. 05-04591) located in Delta County, Colorado. The petitioner proposes to use the following nonpermissible low-voltage or battery powered electronic testing and diagnostic equipment inby the last open crosscut: lap top computers, oscilloscopes, vibration analysis machines, cable fault detectors, point temperature probes, infrared temperature devices, resistance measurement devices, recorders, pressure and flow measurement devices, current measurement devices, signal analyzer devices, thickness gauges, power analyzers, component testers, electronic tachometers, and volt ohm meters. The petitioner has listed in this petition for modification specific procedures that would be followed when using this equipment. The petitioner asserts that the proposed alternative method would provide at least the same measure of protection as the existing standard.

5. Bowie Resources, Ltd.

[Docket No. M-2000-050-C]

Bowie Resources, Ltd., P.O. Box 1488, 1720 4010 Drive, Paonia, Colorado 81428 has filed a petition to modify the application of 30 CFR 75.1002-1(a) (location of trolley wires, trolley feeder wires, high-voltage cables and transformers) to its Bowie Mine (I.D. No. 05-04591) located in Delta County, Colorado. The petitioner proposes to use the following nonpermissible low-voltage or battery powered electronic testing and diagnostic equipment inby the last open crosscut: lap top computers, oscilloscopes, vibration analysis machines, cable fault detectors, point temperature probes, infrared temperature devices, resistance measurement devices, recorders, pressure and flow measurement devices, current measurement devices, signal analyzer devices, thickness gauges, power analyzers, component testers, electronic tachometers, and volt ohm meters. The petitioner has listed in this petition for modification specific procedures that would be followed when using this equipment. The petitioner asserts that the proposed alternative method would provide at least the same measure of protection as the existing standard.

6. Alex Energy, Inc.

[Docket No. M-2000-051-C]

Alex Energy, Inc., P.O. Box 857, Summersville, West Virginia 26651 has filed a petition to modify the application of 30 CFR 75.1002 (location of trolley wires, trolley feeder wires, high-voltage cables and transformers) to its Jerry Fork Eagle Mine (I.D. No. 46-08787) located in Nicholas County, West Virginia. The petitioner proposes to use high-voltage longwall mining equipment, with the nominal voltage of the longwall power circuits not to exceed 4,160 volts. The petitioner asserts that the proposed alternative method would provide at least the same measure of protection as the existing standard.

7. Perry County Coal Corporation

[Docket No. M-2000-052-C]

Perry County Coal Corporation, P.O. Box 5001, Hazard, Kentucky 41702 has filed a petition to modify the application of 30 CFR 75.1911(d) (fire suppression systems for diesel-powered equipment and fuel transportation units) to its Eas #1 Mine (I.D. No. 15-02085) located in Perry County, Kentucky. The petitioner proposes to use either manual fire suppression actuators or the automatic fire suppression system, without the automatic engine shut-down portion, on the 35 ton locomotives and the 12 ton locomotives which haul coal and empty mine cars for all rail haulage. The petitioner asserts that if the diesel locomotive engines were to shut down, the brakes would lock up, causing the coal cars to create a train reaction and derail the locomotive causing injury to the locomotive operator. The petitioner asserts that the proposed alternative method would provide at least the same measure of protection as the existing standard.

8. Rustler Coal Company

[Docket No. M-2000-053-C]

Rustler Coal Company, 66 South Tremont Street, Zerbe, Pennsylvania 17981 has filed a petition to modify the application of 30 CFR 49.2(b) (availability of mine rescue teams) to its Orchard Slope Mine (I.D. No. 36-08346) located in Schuylkill County, Pennsylvania. The petitioner requests a modification of the standard to permit the reduction of two mine rescue teams with five members and one alternate each, to two mine rescue teams of three members with one alternate for either team. The petitioner asserts that application of the existing standard would result in a diminution of safety to the miners and members of the rescue team and that the proposed alternative method would provide at least the same measure of protection as the existing standard.

9. Wayne Processing, Inc.

[Docket No. M-2000-054-C]

Wayne Processing, Inc., 22 Hampton Road, Buckhannon, West Virginia 26201 has filed a petition to modify the application of 30 CFR 75.350 (air courses and belt haulage entries) to its Spruce Fork Mine No. 1 (I.D. No. 46-08622) located in Upshur County, West Virginia. The petitioner requests a modification of the standard to allow air coursed through belt haulage entries to be used to ventilate active working places. The petitioner proposes to install a low-level carbon monoxide detection system in all belt entries at certain locations as an early warning fire detection system. The petitioner also proposes to adhere to other conditions. The petitioner asserts that the proposed alternative method would provide at least the same measure of protection as the existing standard.

10. RAG Cumberland Resources LP

[Docket No. M-2000-055-C]

RAG Cumberland Resources LP, One Oxford Centre, 301 Grant Street, 20th Floor, Pittsburgh, Pennsylvania 15219-1410 has filed a petition to modify the application of 30 CFR 75.1002 (location of trolley wires, trolley feeder wires, high-voltage cables and transformers) to its Cumberland Mine (I.D. No. 36-05018) located in Greene County, Pennsylvania. The petitioner requests that the Proposed Decision and Order (PDO) for its previously granted petition, docket number M-92-99-C, be amended. The petitioner requests that Item #29 of the PDO be amended to allow the widths and lengths of its panels to be increased, and that Item #31 of the PDO be amended to read as follows: A primary escapeway maintained in accordance with 30 CFR 75.380 shall be provided on the headgate end of all longwall panels. The petitioner asserts that the proposed alternative method would provide at least the same measure of protection as the existing standard.

11. Dominion Coal Corporation

[Docket No. M-2000-056-C]

Dominion Coal Corporation, P.O. Box 70, Vansant, Virginia 24656 has filed a petition to modify the application of 30 CFR 77.214(a) (refuse piles; general) to its Dominion Mine No. 22 (I.D. No. 44-06645) located in Buchanan County, Virginia. The petitioner requests a modification of the existing standard to allow abandoned mine openings to be covered with coarse refuse material for the Dominion Mine No. 22, MSHA Site ID #1211-VA5-0335-01. The petitioner proposes to construct a refuse bench fill in abandoned mine openings using the specific plans and procedures outlined in this petition for modification. The petitioner asserts that the proposed alternative method would provide at least the same measure of protection as the existing standard.

12. Basic Mining Corp.

[Docket No. M-2000-084-C]

Basic Mining Corp., P.O. Box 1197, Vansant, Virginia 24656 has filed a petition to modify the application of 30 CFR 75.1710-1(a) (canopies or cabs; self-propelled diesel-powered and electric face equipment; installation requirements) to its Mine No. 2 (I.D. No. 44-05032) located in Dickenson County, Virginia. The petitioner requests a modification of the existing standard to permit its Joy 21 SC Shuttle Cars, Joy 14CM Miners, and Long Airdox LRB15A Roof Drills to be operated without canopies. The petitioner asserts that application of the existing standard would result in a diminution of safety of the miners and that the proposed alternative method would provide at least the same measure of protection as the existing standard.

13. FMC Corporation

[Docket No. M-2000-003-M]

FMC Corporation, P.O. Box 872, Green River, Wyoming 82935 has filed a petition to modify the application of 30 CFR 57.22305 (approved Equipment (III mines)) to its Westvaco Mine (I.D. No. 48-00152) located in Sweetwater County, Wyoming. The petitioner proposes to use a cordless drill or other equivalent drills to install surveying spads in the mine roof to minimize the potential of developing cumulative trauma disorders in the wrists, elbows, and shoulders of the surveyors. The petitioner states that methane will be tested before using the drills and if one percent or more of methane is found, drilling will not begin and that drilling will cease if one percent or more of methane is found during drilling. The petitioner asserts that the proposed alternative method would provide at least the same measure of protection as the existing standard.

14. Greer Industries, Inc., d/b/a Deckers Creek Limestone Company and Green Limestone Company

[Docket No. M-2000-004-M]

Greer Industries, Inc., P.O. Box 1900, Morgantown, West Virginia 26507-1900 has filed a petition to modify the application of 30 CFR part 48 (training and retraining of miners working at surface mines and surface areas of underground mines) to the Deckers Creek Limestone Company, Deckers Creek Mine (I.D. No. 46-00029) and the Greer Limestone Company, Greer Mine and Mill (I.D. No. 46-00016) both located in Monongalia County, West Virginia. The petitioner requests a modification of the existing standard to allow over-the-road contracted delivery trucks used to ship limestone material to go to an underground stockpile area to be loaded for a limited time and purpose. The petitioner states that the truck drivers would not be allowed out of their trucks at any time while receiving their load, the Greer Industries alternative safety plan would provide adequate protection to ensure the safety of all contracted delivery trucks drivers, and that all delivery truck drivers would receive site specific hazard training. The petitioner asserts that the proposed alternative method would provide at least the same measure of protection as the existing standard.

15. Frontier-Kemper Constructors, Inc. [Docket No. M-2000-005-M]

Frontier-Kemper Constructors, Inc., P.O. Box 460, Kearny, Arizona 85237 has filed a petition to modify the application of 30 CFR 57.9360 (shelter holes) to the Asarco Mineral Creek Water Diversion Tunnel at the Asarco Ray Complex (I.D. No. 02-00150), P.O. Box 8, Hayden, Arizona 85236, located in Pinal County, Arizona. The petitioner proposes to construct a tunnel 18 feet, 10 inches in diameter using a CTS Tunnel Boring Machine, Model 490-013, with ground support provided by the installation of segmented 6-inch ring steel flush to the excavated circumference. The petitioner states that the tunnel boring process, a 24-inch elevated conveyor will run from the Tunnel Boring Machine trailing gear to the portal and mounted to the rib and narrow gauge, 36-inch rails will run down the center of the tunnel, pedestrian traffic within the tunnel will be limited to necessary personnel for periodic inspections and/or maintenance; Asarco's production area will not be a part of the tunnel; and all miners at Frontier-Kemper Constructors, Inc. will be transported to the face by rail-mounted conveyance. The petitioner asserts the proposed alternative method would allow for the use of Safety Platforms instead of shelter-holes and would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before July 31, 2000. Copies of these petitions are available for inspection at that address.

Dated: June 19, 2000.
Carol J. Jones,
Director, Office of Standards, Regulations, and Variances.

[FR Doc. 00-16486 Filed 6-28-00; 8:45 am]

BILLING CODE 4510-43-P